DEPARTMENT OF COMMERCE

National Oceanic and Atmospheric Administration

RIN 0648-XA356

Incidental Taking of Marine Mammals; Taking of Marine Mammals Incidental to the Explosive Removal of Offshore Structures in the Gulf of Mexico

AGENCY: National Marine Fisheries Service (NMFS), National Oceanic and Atmospheric Administration (NOAA), Commerce.

ACTION: Notice; issuance of letters of authorization.

SUMMARY: In accordance with the Marine Mammal Protection Act (MMPA) and implementing regulations, notification is hereby given that NMFS has issued six one-year Letters of Authorization (LOA) to take marine mammals incidental to the explosive removal of offshore oil and gas structures (EROS) in the Gulf of Mexico.

DATES: These authorizations are effective from May 1, 2011 through April 30, 2012, and June 1, 2011, through May 31, 2012.

ADDRESSES: The application and LOAs are available for review by writing to P. Michael Payne, Chief, Permits, Conservation, and Education Division, Office of Protected Resources, National Marine Fisheries Service, 1315 East-West Highway, Silver Spring, MD 20910-3235 or by telephoning the contact listed here (see FOR FURTHER INFORMATION CONTACT), or online at: http://www.nmfs.noaa.gov/pr/permits/incidental.htm. Documents cited in this notice may be viewed, by appointment, during regular business hours, at the aforementioned address.

FOR FURTHER INFORMATION CONTACT: Howard Goldstein or Jolie Harrison, Office of Protected Resources, NMFS, 301-713-2289.

SUPPLEMENTARY INFORMATION: Section 101(a)(5)(A) of the MMPA (16 U.S.C. 1361 et seq.) directs the Secretary of Commerce (who has delegated the authority to NMFS) to allow, upon request, the incidental, but not intentional, taking of small numbers of marine mammals by United States citizens who engage in a specified activity (other than commercial fishing) within a specified geographical region, if certain findings are made and regulations are issued. Under the MMPA, the term “take” means to harass, hunt, capture, or kill or to attempt to harass, hunt, capture, or kill any marine mammal.

Authorization for incidental taking, in the form of annual LOAs, may be granted by NMFS for periods up to five years if NMFS finds, after notice and opportunity for public comment, that the taking will have a negligible impact on the species or stock(s) of marine mammals, and will not have an unmitigable adverse impact on the availability of the species or stock(s) for subsistence uses (where relevant). In addition, NMFS must prescribe regulations that include permissible methods of taking and other means of effecting the least practicable adverse impact on the species and its habitat (i.e., mitigation), and on the availability of the species for subsistence uses, paying particular attention to rookeries, mating rounds, and areas of similar significance. The regulations also must include requirements pertaining to the monitoring and reporting of such taking.

Regulations governing the taking of marine mammals incidental to EROS were published on June 19, 2008 (73 FR 34875), and remain in effect through July 19, 2013. For detailed information on this action, please refer to that Federal Register notice. The species that applicants may take in small numbers during EROS activities are bottlenose dolphins (Tursiops truncatus), Atlantic spotted dolphins (Stenella frontalis), pantropical spotted dolphins (Stenella attenuata), Clymene dolphins (Stenella clymene), striped dolphins (Stenella coeruleoalba), spinner dolphins (Stenella longirostris), rough-toothed dolphins (Steno bredanensis), Risso's dolphins (Grampus griseus), melon-headed whales (Peponocephala electra), short-finned pilot whales (Globicephala macrorhynchus), and sperm whales (Physeter macrocephalus). NMFS received requests for LOAs from Merit Energy Company (Merit), Northstar Interests, LLC. (Northstar Interests), Northstar Offshore Energy Partners, LLC. (Northstar Offshore), Ridgelake Energy, Inc. (Ridgelake), Rosetta Resources Offshore, LLC. (Rosetta), and Sojitz Energy Venture, Inc. (Sojitz) for activities covered by the EROS regulations.

Reporting

NMFS regulations require timely receipt of reports for activities conducted under the previously issued LOA and a determination that the required mitigation, monitoring, and reporting were undertaken. NMFS Galveston Laboratory's Platform Removal Observer Program (PROP) has provided reports for Merit Energy Company's (Merit) removal of offshore structures during 2010. While Merit did not have a LOA in 2010 to 2011 or previous years, the energy company used the explosives company, Demex International, Inc., which was issued an LOA for 2010 to 2011, and renewed their LOA again for 2011 to 2012. Northstar Interests, Northstar Offshore, Ridgelake, Rosetta, and Sojitz have not conducted any EROS operations to date. NMFS PROP observers reported the following during Merit's EROS operations in 2010 to 2011:

Company | Structure | Dates | Marine mammal sightings (Individuals) | Biological impacts observed to marine mammals
Merit | High Island Area, Block 138, Platform A | May 23 to 28, 2010 | Bottlenose dolphins (150) | None.
Merit | High Island Area, Block 39, Caisson #9 | May 23 to 24, 2010 | Bottlenose dolphins (1) | None.
Merit | High Island Area, Block 39, Platform B | May 25 to 26, 2010 | None | None.
Merit | High Island Area, Block 39, Caisson #10 | May 27 to 30, 2010 | Bottlenose dolphins (4) | None.
Merit | Vermilion Area, Block 28, Platform A | May 31 to June 4, 2010 | Bottlenose dolphins (33) | None.
Merit | High Island Area, Block 38, Caisson 1 | June 5 to 9, 2010 | Bottlenose dolphins (103) | None.
Merit | Matagorda Island Area, Block 682, Platform A | June 6 to 14, 2010 | Bottlenose dolphins (16) | None.
Merit | High Island Area, Block 39, Platform A | June 16, 2010 | Bottlenose dolphins (10) | None.
Merit | Matagorda Island Area, Block 672, Platform A | June 15 to 20, 2010 | Bottlenose dolphins (13) | None.
Merit | Mustang Island Area, Block A22, Platform A | June 21 to 27 and July 3 to 9, 2010 | Bottlenose dolphins (4) and Spotted dolphins (8) | None.
Merit | Mustang Island Area, Block 785, Platform A | July 10 to 18, 2010 | Unidentified dolphins (15) | None.
Merit | Matagorda Island Area, Block 704, Platform B | July 19 to 25, 2010 | Bottlenose dolphins (3) and Unidentified dolphins (29) | None.

Pursuant to these regulations, NMFS has issued an LOA to Merit, Northstar Interests, Northstar Offshore, Ridgelake, Rosetta, and Sojitz. Issuance of the LOAs is based on a finding made in the preamble to the final rule that the total taking by these activities (with monitoring, mitigation, and reporting measures) will result in no more than a negligible impact on the affected species or stock(s) of marine mammals and will not have an unmitigable adverse impact on subsistence uses. NMFS will review reports to ensure that the applicants are in compliance with meeting the requirements contained in the implementing regulations and LOA, including monitoring, mitigation, and reporting requirements.

Dated: April 20, 2011.
James H. Lecky,
Director, Office of Protected Resources, National Marine Fisheries Service.

[FR Doc. 2011-10177 Filed 4-26-11; 8:45 am]

BILLING CODE 3510-22-P